DEPARTMENT OF ENERGY

Federal Energy Regulatory Commission

Notice of Effectiveness of Exempt Wholesale Generator and Foreign Utility Company Status

| Docket Nos.
East Hampton Energy Storage Center, LLC | EG18-80-000
Montauk Energy Storage Center, LLC | EG18-81-000
Armadillo Flats Wind Project, LLC | EG18-82-000
Heartland Divide Wind Project, LLC | EG18-83-000
Antelope Expansion 2, LLC | EG18-84-000
Pegasus Wind, LLC | EG18-85-000
Thunder Spirit Wind, LLC | EG18-86-000
Pratt Wind, LLC | EG18-87-000
Stoneray Power Partners, LLC | EG18-88-000
Copenhagen Wind Farm, LLC | EG18-89-000
Rio Bravo Windpower, LLC | EG18-90-000
Minco Wind IV, LLC | EG18-91-000
Minco Wind V, LLC | EG18-92-000
Lorenzo Wind, LLC | EG18-93-000
Wildcat Ranch Wind Project, LLC | EG18-94-000
Enbridge Rampion UK Ltd | FC18-5-000

Take notice that during the month of July 2018, the status of the above-captioned entities as Exempt Wholesale Generators or Foreign Utility Companies became effective by operation of the Commission's regulations. 18 CFR 366.7(a) (2017).

Dated: August 10, 2018.
Nathaniel J. Davis, Sr.,
Deputy Secretary.

[FR Doc. 2018-17653 Filed 8-15-18; 8:45 am]

BILLING CODE 6717-01-P